DEPARTMENT OF COMMERCE

Economics and Statistics Administration

Bureau of Economic Analysis Advisory Committee

AGENCY: Bureau of Economic Analysis.

ACTION: Notice of public meeting.

SUMMARY: Pursuant to the Federal Advisory Committee Act (Public Law 92-463 as amended by Public Law 94-409, Public Law 96-523, and Public Law 97-375), we are giving notice of a meeting of the Bureau of Economic Analysis Advisory Committee. The meeting's agenda is as follows: 1. Welcome and Update on BEA Activities, 2. Measuring the Real Output of Government: The Case of Education, 3. Profits, Pensions, and Compensation, 4. Researchers and Getting Access to BEA Data, and 5. International Outsourcing and Other Issues.

DATES: Friday, November 5, 2004, the meeting will begin at 9 a.m. and adjourn at approximately 4 p.m.

ADDRESSES: The meeting will take place at the Washington Plaza Hotel, 10 Thomas Circle, NW., Washington, DC 20005.

FOR FURTHER INFORMATION CONTACT: J. Steven Landefeld, Director, Bureau of Economic Analysis, U.S. Department of Commerce, Washington, DC 20230; telephone number: (202) 606-9600.

Public Participation: This meeting is open to the public. Because of security procedures, anyone planning to attend the meeting must contact Nancy Bryan of BEA at (202) 606-9698 in advance. The meeting is physically accessible to people with disabilities. Requests for foreign language interpretation or other auxiliary aids should be directed to Nancy Bryan at (202) 606-9698.

SUPPLEMENTARY INFORMATION: The Committee was established September 2, 1999, to advise the Bureau of Economic Analysis (BEA) on matters related to the development and improvement of BEA's regional economic accounts and proposed revisions to the International System of National Accounts. This will be the Committee's eighth meeting.

Dated: September 30, 2004.
J. Steven Landefeld,
Director, Bureau of Economic Analysis.

[FR Doc. 04-22538 Filed 10-6-04; 8:45 am]

BILLING CODE 3510-06-P